DEPARTMENT OF ENERGY

[Docket Number DOE-HQ-2024-0019]

Notice of Request for Information (RFI) Related to the Department of Energy's Equity Action Plan Update

AGENCY: Office of Energy Justice and Equity, Department of Energy.

ACTION: Request for information.

SUMMARY: The Department of Energy (DOE or the Department) is seeking information to assist in carrying out certain responsibilities under the Executive order (E.O.), “Further Advancing Racial Equity and Support for Underserved Communities Through the Federal Government” issued on February 22, 2023. Among other requirements, section 3, subsection (b)(iii) of the E.O. directs Federal agencies to submit an Equity Action plan that includes “strategies, including new or revised policies and programs, to address the barriers described in subsection (b)(ii) of this section, and to ensure equitable access and opportunity for underserved communities.” DOE is soliciting information on one or more of the topics outlined in this RFI to address in the next update to the Equity Action Plan. The information provided in response to this RFI will inform the preparation of that update to the plan.

DATES: Comments are requested on or before August 9, 2024 and must be received no later than 11:59 p.m. eastern time (ET). DOE will not reply individually to responders but will consider all comments submitted by the deadline.

ADDRESSES: Comments may be submitted by any of the following methods:

Electronic submission: Submit electronic public comments via the Federal e-Rulemaking Portal.

1. Go to www.regulations.gov and enter DOE-HQ-2024-0019 in the search field,

2. Click the “Comment Now!” icon, complete the required fields, and

3. Enter or attach your comments.

Electronic submissions may also be sent as an attachment to EquityEO.RFI@hq.doe.gov in any of the following unlocked formats: HTML; ASCII; Word; RTF; Unicode, or PDF.

Written comments may also be submitted by mail to: Department of Energy, Office of Energy Justice and Equity, 1000 Independence Avenue SW, Washington, DC 20585.

Response to this RFI is voluntary. Submissions must not exceed 10 pages (when printed) in 12-point or larger font, with a page number provided on each page. Please include your name, organization's name (if any), and cite “DOE Equity Executive Order” in all correspondence.

Comments containing references, studies, research, and other empirical data that are not widely published should include copies of the referenced materials. All comments and submissions, including attachments and other supporting materials, will become part of the public record and subject to public disclosure. Relevant comments will generally be available on the Federal eRulemaking Portal at www.regulations.gov. DOE will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: For questions about this RFI contact: EquityEO.RFI@hq.doe.gov or Bari Brooks, Department of Energy, Office of Energy Justice and Equity, 1000 Independence Avenue SW, Washington, DC 20585, (202) 586-1027. Direct media inquiries to DOE's Office of Public Affairs at (202) 586-5000. Users of telecommunication devices for the deaf, or a text telephone, may call the Federal Relay Service toll free at 1-800-877-8339.

SUPPLEMENTARY INFORMATION:

I. Background

DOE is issuing this Request for Information (RFI) to receive public comment to learn about what further work DOE can do to help underserved/underrepresented groups. The responses to this RFI will help the Department understand potential barriers that underserved communities may face in accessing and benefitting from the agency's policies, programs, and activities, including procurement, contracting, and grant opportunities, to equity that were not addressed in the 2022 Equity Action Plan (EAP) or the 2023 Equity Action Plan Update and inform what equity-related activities and performance metrics the Department should prioritize in the 2024 update to DOE's Equity Action Plan.

This effort will enable DOE to further execute the President's Executive orders 13985 and 14091, entitled “Advancing (and Further Advancing . . . ) Racial Equity and Support for Underserved Communities Through the Federal Government” (Equity E.O.s), signed by the President on January 20, 2021, and February 16, 2023, respectively. E.O. 13985 calls to promote racial equity and support for underserved communities through the U.S. government—including communities of color, people with disabilities, LGBTQ people, religious minorities, people living in rural areas, and people living in poverty. The order directs federal agencies to eliminate systemic barriers to care, such as unequal access to services and inadequate or lack of insurance coverage, and to provide equal access to opportunities and benefits for underserved and underrepresented communities. E.O. 14091 extends and strengthens equity-advancing requirements for federal agencies with the intent to deliver better outcomes for the American people. It also further defined equity-related terms for the purposes of the order, including updates to definitions from previous orders and directives to the following:

• “Equity” means the consistent and systematic treatment of all individuals in a fair, just, and impartial manner, including individuals who belong to communities that often have been denied such treatment, such as Black, Latino, Indigenous and Native American, Asian American, Native Hawaiian, and Pacific Islander persons and other persons of color; members of religious minorities; women and girls; LGBTQI+ persons; persons with disabilities; persons who live in rural areas; persons who live in United States Territories; persons otherwise adversely affected by persistent poverty or inequality; and individuals who belong to multiple such communities.

• “Underserved communities” refers to those populations as well as geographic communities that have been systematically denied the opportunity to participate fully in aspects of economic, social, and civic life, as exemplified by the list in the preceding definition of “equity”, as defined in Executive orders 13985 and 14020.

As required by Executive Order 13985, DOE released its first EAP in April 2022. DOE provided an update to its initial plan pursuant to E.O. 14091 with five new strategies to prioritize in the second plan it released in February 2024.

The DOE EAP outlines key actions that the Department will undertake to embed equity throughout its policies and programs. Click here to see the plans: www.energy.gov/sites/default/files/2022-04/DOE%20Equity%20Action%20Plan_Letterhead.pdf www.energy.gov/justice/articles/doe-equity-action-plan-and-2023-update-2022-plan.

The public is encouraged to provide input in response to the questions listed in section II to help the Department understand the impact of our equity activities to date and inform what efforts we prioritize as we update DOE's Equity Action Plan.

II. Questions

A. The Department of Energy seeks public input on the current strategies listed in the 2023 Equity Action Plan Update. The public is encouraged to provide input in response to the questions below to help the Department understand the impact of our equity activities to-date.

Community Benefits Plans Implementation

1. In response to the Executive Order 14091, “Further Advancing Racial Equity and Support for Underserved Communities Through the Federal Government”, DOE has included a strategic goal to “establish a DOE-wide Community Benefits Plan (CBP) framework that builds trust and improves outcomes for underserved communities, which in turn supports successful Deployment & Demonstration and R&D projects that advance an equitable clean energy transition.” Are there additional actions that DOE should take to remove barriers for underserved communities? Are there additional metrics that DOE should be using to track success towards improved outcomes?

Merit Reviewer Program

2. In response to the Executive Order 14091, DOE has included a strategic goal to “update the DOE Merit Review Program to improve equitable outcomes for DOE awards.” What additional improvements could DOE make in the merit reviewer recruitment and communication process to remove barriers for underrepresented groups?

Procurement and Access

3. DOE is seeking feedback on how communities struggle with completing applications for funding and how DOE can help. What resources could DOE provide to better assist underserved communities in identifying new opportunities to be awarded a contract or grant and completing applications?

4. What resources could DOE provide to better assist underserved communities in properly managing and executing DOE grant or cooperative agreement projects?

5. Have you encountered barriers within DOE's procurement process that prevent underserved communities from receiving awards of DOE contracts? Please provide specific examples.

Justice40 Research and Development Metrics

6. In response to Executive Order 14091, “Further Advancing Racial Equity and Support for Underserved Communities Through the Federal Government”, DOE has included a strategic goal to “integrate and track justice considerations through a metrics framework for the Department's R&D strategy by providing consistent communication of expectations and efficient coordination and implementation of reporting requirements across the Department.” What additional improvements could DOE make in the collection and distribution of Justice40 R&D metrics? Are there additional actions or metrics that the Department should consider?

Outreach/Engagement

7. In response to Executive Order 14091, “Further Advancing Racial Equity and Support for Underserved Communities Through the Federal Government”, DOE has included a strategic goal to “develop an agency-wide framework to effectively work with Tribal and disadvantaged communities to reimagine their clean energy future through real investments and technical assistance and ensure that community voices and decision-making are integrated into DOE funding, research, and programming.” How should DOE coordinate, communicate, and/or engage with these communities? What could meaningful engagement look like?

B. The Department of Energy is seeking to address additional barriers in its programs and policies in future equity action plans. The public is encouraged to provide input in response to the questions below to inform what efforts we prioritize as we update DOE's Equity Action Plan.

Energy Jobs/Workforce

1. As America transitions to a clean energy economy, historic Federal investments can further three interrelated goals: creating more domestic jobs, attracting and retaining workers in good jobs, and prioritizing inclusive access to those good jobs, including for underserved and underrepresented populations. What strategies should DOE prioritize to achieve these three interrelated goals? What factors are the most pronounced barriers facing workers, including underserved and underrepresented populations, to join and succeed in the energy workforce? How could DOE help to reduce or eliminate those barriers?

Additional Unidentified Barrers

2. What additional barriers in DOE's policies, programs, processes should the Department consider examining as it continues to develop strategies for future equity action plans?

Signing Authority

This document of the Department of Energy was signed on June 18, 2024, by Shalanda H. Baker, Director, Office of Energy Justice and Equity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 20, 2024.
Treena V. Garrett,
Federal Register Liaison Officer, U.S. Department of Energy.

[FR Doc. 2024-13905 Filed 6-24-24; 8:45 am]

BILLING CODE 6450-01-P